DEPARTMENT OF DEFENSE

Department of the Army; Corps of Engineers

Intent To Prepare a Draft Environmental Impact Statement for Potential Multipurpose Projects for Ecosystem Restoration, Flood Risk Management, and Recreation Development Within and Along Johnson Creek, Arlington, Tarrant County, TX

AGENCY: Department of the Army, U.S. Army Corps of Engineers, DoD.

ACTION: Notice of intent.

SUMMARY: The study is being conducted in response to the authority contained in the Consolidated Appropriations Act, 2008. Pertinent text is quoted below:

SEC. 117. JOHNSON CREEK, ARLINGTON, TEXAS.

(a) IN GENERAL.—The project for flood damage reduction, environmental restoration and recreation, Johnson Creek, Arlington, Texas, authorized by section 101(b)(14) of the Water Resources Development Act of 1999 (113 Stat. 280-281) is modified to authorize the Secretary to construct the project substantially in accordance with the report entitled Johnson Creek: A Vision of Conservation, dated March 30, 2006, at a total cost of $80,000,000, with an estimated Federal cost of $52,000,000 and an estimated non-Federal cost of $28,000,000 if the Secretary determines that the project is technically sound and environmentally acceptable.

An initial assessment based on the authority indicates that the modifications outlined within the report “Johnson Creek: A Vision of Conservation” require preparation of a Draft Environmental Impact Statement (DEIS) to review the project proposal based upon magnitude of modifications proposed and potential controversy related to degree of initial short term impacts.

In accordance with the National Environmental Policy Act, the DEIS will be prepared to evaluate and compare ecosystem restoration, flood damage reduction, and recreation alternatives within and along Johnson Creek and its floodplain within the City of Arlington, Texas. In addition, the local cost share sponsor (City of Arlington) is proceeding with construction of Phase 1a of the project located between Randol Mill Road and Sanford Streets and has requested that the federal government reimburse a portion of their expenditures. The government's decision will be based upon analyses within the EIS to determine technical soundness and environmental acceptability of the proposal. The general study area will be bound on the upstream by Interstate Highway 20 and at the downstream at Interstate Highway 30.

DATES: A public scoping meeting will be held on July 31, 2008 beginning at 4:30 p.m.

ADDRESSES: The meeting will be held at the Bob Duncan Center, located within Vandergriff Park, 2800 South Center Street, Arlington, TX 76014.

FOR FURTHER INFORMATION CONTACT: Questions pertaining to the proposed action and DEIS can be addressed to: Ms. Amy Archambeau, Project Manager, CESWF-PER-PP, U.S. Army Corps of Engineers, Fort Worth District, P.O. Box 17300, Fort Worth, TX 76102-0300, (817) 886-1867.

SUPPLEMENTARY INFORMATION: The study area lies within an area of rapid growth in the Dallas-Fort Worth, Texas metropolitan area. Johnson Creek has experienced a history of flooding, bank and stream bed erosion and habitat degradation during the past 60 years that has led to several studies and local and federal actions to reduce damages. Following WRDA, 1999, a non-structural flood damage reduction and ecosystem restoration project was initiated that resulted in the acquisition and removal of 140 residential structures from the 25-year floodplain and acquisition of 155 acres of floodplain lands for restoration. Approximately 90 acres of this land was planted with a variety of native grasses, forbs, shrubs and trees to improve the riparian habitat along Johnson Creek.

Alternatives for ecosystem restoration, flood damage reduction, and recreation will be developed and evaluated based on ongoing fieldwork and data collection and past studies conducted by the Corps of Engineers, the City of Arlington, U.S. Fish and Wildlife Service and U.S. Geological Survey. Ecosystem restoration alternatives will include bank protection; natural channel design restoring, protecting and expanding the riparian corridor; improving aquatic habitat including creating riffle-pool complexes; and constructing wetlands. It is anticipated that ecosystem restoration measures would improve water quality, improve aquatic and terrestrial habitat, and minimize erosion and scouring along and within Johnson Creek. Alternatives for flood damage reduction measures will be evaluated from both a non-structural and structural aspect. Non-structural measures will include acquisition and removal of structures or flood proofing. Structural measures will include channel modification by increasing widths and depths and straightening or a combination of these measures. Recreation measures will include multipurpose trails and passive recreation features, such as interpretive guidance and media and picnic areas. Recreation measures will be developed to a scope and scale compatible with proposed ecosystem restoration measures without significantly diminishing ecosystem benefits.

The public will be invited to participate in the scoping process, invited to attend public meetings, and given the opportunity to review the DEIS. The first public scoping meeting will be on (see DATES & ADDRESSES). Subsequent public meetings, if deemed necessary, will be announced in the local news media. Release of the DEIS for public comment is scheduled for December 2009. The exact release date, once established, will be announced through mailings to known interested individuals, agencies and officials and in the local news media.

Future coordination with other agencies and public scoping will be conducted to ensure full and open participation and aid in the development of the DEIS. All affected Federal, state, and local agencies, affected Indian tribes, and other interested private organizations and parties are hereby invited to participate. Future coordination will also be conducted with the U.S. Fish and Wildlife Service (USFWS). The USFWS will furnish information on threatened and endangered species in accordance with the Endangered Species Act. In addition, the USFWS will also be requested to provide support with planning aid and to provide a Fish and Wildlife Coordination Act Report. The State Historic Preservation Office will be consulted as required by Section 106 of the National Historic Preservation Act.

Dated: July 11, 2008.
Jimmy D. Baggett,
Acting District Engineer.

[FR Doc. E8-16446 Filed 7-17-08; 8:45 am]

BILLING CODE 3710-20-P